DEPARTMENT OF EDUCATION

Applications for New Awards; Training and Information for Parents of Children with Disabilities—Military Parent Technical Assistance Center

AGENCY: Office of Special Education and Rehabilitative Services, Department of Education.

ACTION: Notice.

Overview Information

Training and Information for Parents of Children with Disabilities—Military Parent Technical Assistance Center

Notice inviting applications for new awards for fiscal year (FY) 2014.

Catalog of Federal Domestic Assistance (CFDA) Number:

84.328R.

DATES:

Applications Available: March 24, 2014.

Deadline for Transmittal of Applications: May 23, 2014.

Deadline for Intergovernmental Review: July 22, 2014.

Full Text of Announcement

I. Funding Opportunity Description

Purpose of Program: The purpose of this program is to ensure that parents of children with disabilities receive training and information to help improve results for their children.

Priorities: In accordance with 34 CFR 75.105(b)(2)(iv), these priorities are from allowable activities specified in the statute (see sections 671, 672, 673, and 681(d) of the Individuals with Disabilities Education Act (IDEA)). This notice establishes one absolute priority and one competitive preference priority.

Absolute Priority: For FY 2014 and any subsequent year in which we make awards from the list of unfunded applicants from this competition, this priority is an absolute priority. Under 34 CFR 75.105(c)(3), we consider only applications that meet this priority.

This priority is: Military Parent Technical Assistance Center.

Background

The purpose of this priority is to fund a cooperative agreement to establish and operate a military parent technical assistance center (Military PTAC) to support Parent Training and Information Centers (PTIs) and Community Parent Resource Centers (CPRCs) (collectively referred to as “parent centers”) as they serve military parents ¹ of children with disabilities and youth with disabilities ² (hereafter referred to as “military families”).

¹ The term “parent” includes natural, adoptive, and foster parents, and individuals acting in the role of parent as defined in section 602(23) of IDEA.

² The term “disabilities” refers to the full range of disabilities described in section 602(3) of IDEA.

More than 35 years of research and experience has demonstrated that the education of children with disabilities can be made more effective by strengthening the ability of parents to participate fully in the education of their children at school and at home (see section 601(c)(5)(B) of IDEA). Since the Department first funded parent centers over 35 years ago, parent centers have helped parents set high expectations for their children with disabilities, and provided parents with the information and training they need to help their children meet those expectations. Parent centers, consistent with section 671(b) of IDEA, have successfully helped families: (a) Navigate systems that provide early intervention, special education, general education, postsecondary options, and related services; (b) understand the nature of their children's disabilities; (c) learn about their rights and responsibilities under IDEA; (d) expand their knowledge of evidence-based education practices to help their children succeed; (e) strengthen their collaboration with professionals; (f) locate resources available for themselves and their children, which connects them to their local communities; and (g) advocate for improved student achievement, increased graduation rates, and improved postsecondary outcomes for all children, including through participation in school reform activities. In addition, parent centers have helped youth with disabilities expect more from themselves, understand their rights and responsibilities, and learn self-advocacy skills. Parent centers have been valuable partners to Federal, State, and local agencies, providing expertise on how to serve families and youth effectively and efficiently.

The Department will fund a Military PTAC to focus on building the capacity of parent centers to provide effective services to military families. In a September 2012 report to the Senate Committee on the Armed Forces, the United States Government Accountability Office identified military families' lack of information about obtaining services necessary to support their children as a significant barrier to timely access to those services.³ In order to provide military families with the information they need and to effectively support them, staff at parent centers need to be knowledgeable about how military life affects the information and training needs of military families who have a child with a disability, including: (a) The difficulties associated with moving from one duty station to another (including timely access to evaluations, comparable services, eligibility determinations, and extended school year services); ⁴ (b) medical and insurance issues unique to military families; (c) policies governing the Exceptional Family Member Program (EFMP) and Educational and Developmental Intervention Services (EDIS); and (d) the policies governing how services are provided by schools managed by the Department of Defense.

³ U.S. Government Accountability Office. (2012, September). Military dependent students: Better oversight needed to improve services for children with special needs (GAO-12-680). Retrieved from www.gao.gov/products/GAO-12-680.

⁴ U.S. Department of Education. (2013, July 19). OSEP Dear Colleague Letter on Education for Highly Mobile Children. Retrieved from http://www2.ed.gov/policy/speced/guid/idea/memosdcltrs/12-0392dclhighlymobile.pdf.

The Military PTAC will provide universal TA ⁵ to all parent centers on the provision of effective services to military families, including how to refer families to EFMP and EDIS services, explain the benefits of those services to families, and help military families navigate services in and transitions to local public schools and early intervention programs in the States.

⁵ As used in this priority, “universal TA” means TA and information provided to independent users through their own initiative, resulting in minimal interaction with TA center staff. This category of TA includes information or products, such as newsletters, guidebooks, or research syntheses, downloaded from the PTAC's Web site by independent users. Brief communications by PTAC staff with recipients, either by telephone or email, are also considered universal, general TA. The following Web site provides more information on levels of TA: www.tadnet.org/pages/588.

The Military PTAC will would also provide targeted ⁶ and intensive TA ⁷ to parent centers requesting additional support to build their capacity to reach and provide services to military families. In addition, the Military PTAC, working collaboratively with the Department of Defense's Office of Community Supports for Military Families with Special Needs, will help facilitate relationships with the EFMP programs at the military bases within the States.

⁶ As used in this priority, “targeted TA” means TA services developed based on needs common to multiple recipients and not extensively individualized. A relationship is established between the TA recipient and one or more TA center staff. This category of TA can be one-time, labor-intensive events, such as facilitating strategic planning or hosting regional or national meetings. TA can also be episodic, less labor-intensive events that extend over a period of time, such as facilitating a series of conference calls on single or multiple topics that are designed around the needs of the recipients. Facilitating communities of practice can also be considered targeted, specialized TA. The following Web site provides more information on levels of TA: www.tadnet.org/pages/588.

⁷ As used in this priority, “intensive TA” means TA services often provided on-site and requiring a stable, ongoing, negotiated relationship between the TA center staff and the TA recipient. The TA relationship is defined as a purposeful, planned series of activities designed to reach an outcome that is valued by the individual recipient. This category of TA results in changes to policy, program, practice, or operations that support increased recipient capacity or improved outcomes at one or more levels. The following Web site provides more information on levels of TA: www.tadnet.org/pages/588.

There is one competitive preference priority within this absolute priority. For an applicant under this absolute priority, the competitive preference priority will award additional points if the applicant is a parent organization. We believe such an organization would understand the day-to-day challenges faced by families of children with disabilities and their information and training needs.

The following Web site provides further information on the work of the currently funded PTI serving military families: www.stompproject.org/.

Priority

The purpose of this priority is to fund a cooperative agreement to establish and operate a Military PTAC. The Military PTAC must, at a minimum: (a) increase knowledge in parent centers of how to provide effective services that meet the needs of military families (i.e., military parents of children with disabilities and youth with disabilities in military families) and that lead to improvements in early learning, school-aged, and postsecondary outcomes; and (b) increase the capacity of parent centers to reach and provide services to military families in their areas.

To be considered for funding under this priority, an applicant must meet the application, programmatic, and administrative requirements of this priority. The requirements for the Military PTAC are as follows:

(a) Demonstrate, in the narrative section of the application under “Significance of the Project,” how the proposed project will—

(1) Address parent centers' need for knowledge of how to provide effective services that meet the needs of military families and increase their capacity to support military families, through the provision of universal, targeted, and intensive TA. To meet this requirement the applicant must—

(i) Present information on the needs of military families, the different systems that provide services to these families, and the best practices for reaching and supporting these families;

(ii) Demonstrate knowledge of best practices for providing training and information to a variety of adult and youth audiences, particularly military families;

(iii) Demonstrate knowledge of current evidence-based education practices and policy initiatives for children and youth with disabilities in early childhood, early learning, general and special education, transition services, and postsecondary programs, and how those best practices can be customized to the needs of military families; and

(iv) Demonstrate knowledge of current programs and resources available specifically for military families; the Office of Special Education Programs (OSEP) technical assistance and dissemination (TA&D) projects and other Department-funded resources; and other Federal, State, and local resources that serve military families; and

(2) Result in an increased capacity of the parent centers to effectively support and provide services to military families.

(b) Demonstrate, in the narrative section of the application under “Quality of the Project Services,” how the proposed project will—

(1) Conduct a national assessment of the needs of parent centers for—

(i) Knowledge of the needs of military families; the different systems that provide services to those families; and the best practices for reaching and supporting military families; and

(ii) Resources and services to increase parent centers' capacity to reach and provide services to military families, including making appropriate referrals to other services that support families and youth.

Note: The methods and tools that will be used to conduct the needs assessment will be finalized in consultation with the Center for Parent Information and Resources (CPIR), the Regional PTACs, the Native American PTAC, and the OSEP project officer in order to assure coordination and avoid duplication;

(2) Use a conceptual framework and project logic model (see paragraphs (f)(1-2)) to guide the development of project plans and activities; and

(3) Provide universal and targeted TA, as appropriate, to parent centers on best practices in reaching and supporting military families and supporting the participation of military parents of children with disabilities in school reform activities, that—

(i) Includes training for a variety of audiences (e.g., parent center directors, staff, and members of the boards of directors);

(ii) Increases parent centers' capacity to provide information and training to military families on evidence-based education practices that lead to improved early learning, school-aged, and postsecondary outcomes; college- and career-ready standards and assessments; school reform efforts to improve student achievement and increase graduation rates; and the use of data to inform instruction and enhance school reform efforts;

(iii) Increases parent centers' capacity to provide training to youth with disabilities in military families on their rights and responsibilities and to build their self-advocacy skills;

(iv) Is available in a variety of formats (e.g., newsletters, communities of practice, and wikis);

(v) Uses various methods to deliver TA (in-person, remote, and Web-based, among others);

(vi) Uses best practices for training and providing TA to adult learners;

(vii) Uses technology to increase its efficiency and effectiveness;

(viii) Addresses the needs identified through the needs assessment in paragraph (b)(1);

(ix) Responds to emerging educational and policy initiatives that affect military families; and

(x) Makes use of existing knowledge and expertise within parent centers, the CPIR, the Regional PTACs, and the Native American PTAC;

(4) Create new training and information materials for parent centers to use with staff members and military families that are responsive to the changing needs of parent centers;

(5) Provide intensive TA to parent centers that request it. The intensive TA must include—

(i) Methods for identifying and accessing needed resources from other parent centers, the CPIR, the Regional PTACs, the Native American PTAC, OSEP TA&D centers, other Department-funded resources, and national and State centers focused on military families and the issues that affect them;

(ii) Methods for acting as a broker between parent centers and military entities, such as EFMP and EDIS, in collaboration with the Office of Community Supports for Military Families with Special Needs, as appropriate;

(iii) In-person, on-site visits with the parent centers in need of intensive TA, as appropriate; and

(iv) Methods for following up with parent centers and providing ongoing support;

(6) Disseminate information to military families about the work of the parent centers, OSEP's TA&D Network, OSEP initiatives, and other Department-funded resources and initiatives in collaboration with the CPIR, the Regional PTACs, and Native American PTAC; and

(7) Refer military families who contact the Military PTAC to the appropriate parent centers in a manner that assures that the families' needs will be served and, as appropriate, incorporates TA to the parent centers to build their capacity to support these families.

(c) Demonstrate, in the narrative section of the application under “Quality of the Evaluation Plan,” how—

(1) The applicant will evaluate the effectiveness of the proposed project by undertaking a formative evaluation and a summative evaluation, including a description of how the applicant will measure the outcomes proposed in the logic model (see paragraph (f)(1)). The description must include—

(i) Proposed evaluation methodologies, including proposed instruments, data collection methods, and analyses; and

(ii) Proposed criteria for determining effectiveness;

(2) The proposed project will use the evaluation results to examine the effectiveness of its implementation and its progress toward achieving intended outcomes; and

(3) Formative evaluation activities during the project period will complement and coordinate with a summative evaluation. The formative and summative evaluation will be developed in consultation with the OSEP project officer.

(d) Demonstrate, in the narrative section of the application under “Adequacy of Project Resources,” how—

(1) The proposed personnel, consultants, and contractors have the qualifications and experience to carry out the proposed activities and achieve the intended outcomes identified in the project logic model (see paragraph (f)(1));

(2) The applicant will encourage applications for employment from persons who are members of groups that have traditionally been underrepresented based on race, color, national origin, linguistic diversity, gender, age, or disability, as appropriate; and

(3) The applicant and key partners have adequate resources to carry out the proposed project activities.

(e) Demonstrate, in the narrative section of the application under “Quality of the Management Plan,” how—

(1) The proposed management plan will ensure that the intended outcomes identified in the project logic model (see paragraph (f)(1)) will be achieved on time and within budget;

(2) The time of key personnel, consultants, and contractors will be sufficiently allocated to the project;

(3) The proposed management plan will ensure that the products and services provided are of high quality; and

(4) The proposed project benefits from a diversity of perspectives, including those of parent center staff, TA providers, researchers, and families, among others.

(f) Address the following application requirements. The applicant must—

(1) Include, in Appendix A, a logic model that depicts, at a minimum, the goals, activities, outputs, and outcomes of the proposed project. A logic model communicates how a project will achieve its intended outcomes and provides a framework for both the formative and summative evaluations of the project.

Note: The following Web sites provide more information on logic models: www.researchutilization.org/matrix/logicmodel_resource3c.html and www.tadnet.org/pages/589.

(2) Include, in Appendix A, a conceptual framework for the project;

(3) Include, in Appendix A, person-loading charts and timelines, as applicable, to illustrate the management plan described in the narrative;

(4) Include, in the budget, attendance at the following:

(i) An annual planning meeting in Washington, DC, with the OSEP project officer and other relevant staff during each year of the project period.

Note: Within 30 days of receipt of the award, a post-award teleconference must be held between the OSEP project officer and the grantee's project director or other authorized representative.

(ii) A three-day project directors' conference in Washington, DC, during each year of the project period.

(iii) One trip annually to attend Department briefings, Department-sponsored conferences, and other meetings, as requested by OSEP;

(5) Include, in the budget, a line item for an annual set-aside of five percent of the grant amount to support emerging needs that are consistent with the proposed project's intended outcomes, as those needs are identified in consultation with OSEP.

Note: With approval from the OSEP project officer, the Center must reallocate any remaining funds from this annual set-aside no later than the end of the third quarter of each budget period; and

(6) Maintain a Web site that meets government or industry-recognized standards for accessibility.

Competitive Preference Priority

Within this absolute priority, we give competitive preference to applications that address the following priority. For FY 2014 and any subsequent year in which we make awards from the list of unfunded applicants from this competition, this priority is a competitive preference priority. Under 34 CFR 75.105(c)(2)(i), we award an additional 5 points to an application that meets this priority.

This priority is:

Applicants that are parent organizations.

Section 671(a)(2) of IDEA defines a “parent organization” as a private nonprofit organization (other than an institution of higher education) that—

(A) Has a board of directors—

(i) The majority of whom are parents of children with disabilities ages birth through 26;

(ii) That includes—

(I) Individuals working in the fields of special education, related services, and early intervention;

(II) Individuals with disabilities; and

(iii) The parent and professional members of which are broadly representative of the population to be served, including low-income parents and parents of limited English proficient children; and

(B) Has as its mission serving families of children with disabilities who—

(i) Are ages birth through 26; and

(ii) Have the full range of disabilities described in section 602(3) of IDEA.

Waiver of Proposed Rulemaking: Under the Administrative Procedure Act (APA) (5 U.S.C. 553) the Department generally offers interested parties the opportunity to comment on proposed priorities and requirements. Section 681(d) of IDEA, however, makes the public comment requirements of the APA inapplicable to the priorities in this notice.

Program Authority: 20 U.S.C. 1471, 1472, 1473, and 1481.

Applicable Regulations: (a) The Education Department General Administrative Regulations (EDGAR) in 34 CFR parts 74, 75, 77, 79, 81, 82, 84, 97, 98, and 99. (b) The Education Department debarment and suspension regulations in 2 CFR part 3485.

Note: The regulations in 34 CFR part 79 apply to all applicants except federally recognized Indian tribes.

II. Award Information

Type of Award: Cooperative agreement.

Estimated Available Funds: $295,000 for the competition announced in this notice for year one. In years two through four we intend to award an estimated $300,000 for the competition.

Contingent upon the availability of funds and the quality of applications, we may make additional awards in FY 2015 from the list of unfunded applicants from this competition.

Maximum Award: We will reject any application that proposes a budget exceeding $295,000 for a single budget period of 12 months in year one and $300,000 for a single budget period of 12 months in years two through four. The Assistant Secretary for Special Education and Rehabilitative Services may change the maximum amount through a notice published in the Federal Register.

Estimated Number of Awards: 1.

Note: The Department is not bound by any estimates in this notice.

Project Period: Up to 48 months.

III. Eligibility Information

1. Eligible Applicants: Nonprofit private organizations.

2. Cost Sharing or Matching: This program does not require cost sharing or matching.

3. Other General Requirements:

(a) Recipients of funding under this program must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

IV. Application and Submission Information

1. Address to Request Application Package: You can obtain an application package via the Internet, from the Education Publications Center (ED Pubs), or from the program office.

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.328R.

To obtain a copy from the program office, contact: Carmen Sanchez, U.S. Department of Education, 400 Maryland Avenue SW., Room 4057, Potomac Center Plaza (PCP), Washington, DC 20202-2600. Telephone: (202) 245-6595. If you use a TDD or TTY, call the Federal Relay Service (FRS), toll free, at 1-800-877-8339.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to no more than 50 pages, using the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial. An application submitted in any other font (including Times Roman or Arial Narrow) will not be accepted.

The page limit and double-spacing requirement does not apply to Part I, the cover sheet; Part II, the budget section, including the narrative budget justification; Part IV, the assurances and certifications; or the abstract (follow the guidance provided in the application package for completing the abstract), the table of contents, the list of priority requirements, the resumes, the reference list, the letters of support, or the appendices. However, the page limit and double-spacing requirement does apply to all of Part III, the application narrative, including all text in charts, tables, figures, graphs, and screen shots.

We will reject your application if you exceed the page limit in the application narrative section; or if you apply standards other than those specified in the application package.

3. Submission Dates and Times:

Applications Available: March 24, 2014.

Deadline for Transmittal of Applications: May 23, 2014.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice. Deadline for Intergovernmental Review: July 22, 2014.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov. and before you can submit an application through Grants.gov.

If you are currently registered with the SAM, you may not need to make any changes. However, please make certain that the TIN associated with your DUNS number is correct. Also note that you will need to update your registration annually. This may take three or more business days.

Information about SAM is available at SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications

Applications for grants under the Military Parent Technical Assistance Center competition, CFDA number 84.328R, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Military Parent Technical Assistance Center competition at www.Grants.gov. You must search for the downloadable application package for this competition by the CFDA number. Do not include the CFDA number's alpha suffix in your search (e.g., search for 84.328, not 84.328R).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Carmen Sanchez, U.S. Department of Education, 400 Maryland Avenue SW., Room 4057, Potomac Center Plaza (PCP), Washington, DC 20202-2600. FAX: (202) 245-7617.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.328R), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.328R), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Training and Information for Parents of Children with Disabilities program. Projects funded under this competition are required to submit data on the following measures as directed by OSEP:

Program Performance Measure #1: The percentage of materials used by PTI projects that are deemed to be of high quality.

Program Performance Measure #2: The percentage of products and services deemed to be of high relevance to educational and early intervention policy and practice.

Program Performance Measure #3: The percentage of all products and services deemed to be useful by target audiences to improve educational or early intervention policy or practice.

Grantees will be required to report information on their project's performance in annual and final performance reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Carmen Sanchez, U.S. Department of Education, 400 Maryland Avenue SW., Room 4057, PCP, Washington, DC 20202-2600. Telephone: (202) 245-6595.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 14, 2014.
Michael K. Yudin,
Acting Assistant Secretary for Special Education and Rehabilitative Services.

[FR Doc. 2014-06422 Filed 3-21-14; 8:45 am]

BILLING CODE 4000-01-P